DEPARTMENT OF HOMELAND SECURITY

Coast Guard

[Docket No. USCG-2010-0164]

National Boating Safety Advisory Committee; March 2022 Meeting

AGENCY: U.S. Coast Guard, Department of Homeland Security.

ACTION: Notice of Federal Advisory Committee meeting.

SUMMARY: The National Boating Safety Advisory Committee (Committee) and its Subcommittees will meet in Annapolis, MD to discuss matters relating to recreational boating safety. The meeting will be open to the public via a virtual platform. There is also limited in-person access.

DATES:

Meetings: The National Boating Safety Advisory Committee and its Subcommittees will meet on Monday, March 28, 2022 from 1:00 p.m. until 4:30 p.m., (Eastern Daylight Time), Tuesday, March 29, 2022 from 8 a.m. until 4:30 p.m. and on Wednesday, March 30, 2022 from 8 a.m. until 12 p.m. Please note these meetings may adjourn early if the Committee has completed its business.

Comments and supporting documentation: To ensure your comments are received by Committee members before the meeting, submit your written comments no later than March 21, 2022.

ADDRESSES: The meeting will be held at the American Boat and Yacht Council at 613 Third Street, Suite10, Annapolis, MD 21403, www.abycinc.org.

Pre-registration information: Pre-registration is required for in-person access to the meeting, and for any attending via teleconference. In-person attendance to the meeting will be limited to the first 49 registrants, with priority for members of the Committee and Coast Guard support staff. If you are not a member of the Committee and do not represent the Coast Guard, you must request in-person attendance by contacting the individual listed in the FOR FURTHER INFORMATION CONTACT section of this notice. You will receive a response noting if you are able to attend in-person or if the in-person roster is full. Additionally, the NBSAC mailing list will receive a notification when the in-person attendance roster is full.

Attendees at the meeting will be required to follow COVID-19 safety guidelines promulgated by Centers for Disease Control and Prevention (CDC), which may include the need to wear masks and by completing Certification of Vaccination Form OMB Control No. 3206-0277, or providing proof of vaccination. This form can be accessed at Certification VaccinationPRAv7.pdf (menlosecurity.com). You may be asked to show this form when entering the facility. Please maintain this form during your visit. Masks will be provided for attendees. CDC guidance on COVID protocols can be found here: https://www.cdc.gov/coronavirus/2019-ncov/communication/guidance.html.

Teleconference lines and live virtual document sharing will be available for the full meeting of the Committee.

For information on facilities or services for individuals with disabilities or to request special assistance at the meeting, contact the individual listed in the FOR FURTHER INFORMATION CONTACT of this notice.

Instructions: You are free to submit comments at any time, including orally at the meeting, but if you want Committee members to review your comments before the meeting, please submit your comments no later than March 21, 2022. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2010-0164]. Comments received will be posted without alteration at http://www.regulations.gov, including any personal information provided. You may wish to view the Privacy and Security Notice available on the homepage of https://www.regulations.gov, and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Jeff Decker, Alternate Designated Federal Officer of the National Boating Safety Advisory Committee, 2703 Martin Luther King Jr. Ave SE, Stop 7509, Washington, DC 20593-7509, telephone 202-372-1507 or NBSAC@uscg.mil.

SUPPLEMENTARY INFORMATION: Notice of this meeting is given pursuant to the Federal Advisory Committee Act, (5, U.S.C, Appendix). The National Boating Safety Advisory Committee was established on December 4, 2018, by § 601 of the Frank LoBiondo Coast Guard Authorization Act of 2018 (Pub. L. 115-282, 132 Stat. 4192). That authority is codified in 46 U.S.C. 15105. The Committee operates under the provisions of the Federal Advisory Committee Act (5 U.S.C. Appendix) in addition to the administrative provisions for the National Maritime Transportation Advisory Committees in 46 U.S.C. 15109. The National Boating Safety Advisory Committee provides advice and recommendations to the Department of Homeland Security on matters relating to recreational vessels and associated equipment and on other safety matters related to recreational vessels.

Agenda

Day 1

The agenda for the National Boating Safety Advisory Committee meeting is as follows:

Monday, March 28, 2022

(1) Call to Order.

(2) Opening remarks.

(3) Receipt and discussion of the following reports from the Office of Auxiliary and Boating Safety:

(a) Division Chief Report of new State Guide, Office Projects, Use of Nonmotorized and Motorized vessels, Waterway Management Guide and website enhancements.

(b) The difference between Operator of Uninspected Passenger Vessel (OUPV) and Restricted Operator of Uninspected Passenger Vessel credentials and casualty statistics involving credentialed mariners engaged in providing recreational boating education.

(c) Boating Incident Reporting Policy.

(d) State Reporting Statistics.

(e) eFoils and JetBoards.

(f) Engine Cut-off Switch Update.

(g) Rental Boat Incidents.

(h) Use of motorized and non-motorized vessels.

(4) Public comment period.

(5) Meeting Recess.

Day 2

Tuesday, March 29, 2022

(1) Call to Order.

(2) USCG Office of Boating Safety, Product Assurance Branch (BSX-23).

(3) Breakout sessions for Strategic Planning and Prevention through People Subcommittees.

(4) Report from Strategic Planning Subcommittee to the full Committee.

(5) Report from Prevention through People Subcommittee to the full Committee.

(6) Public comment period.

(7) Meeting Recess.

Day 3

Wednesday, March 30, 2022

The full Committee will resume meeting.

(1) Call to Order.

(2) Discussion of Subcommittee recommendations and Committee Actions.

(3) Full Committee Open Discussion of Boating Safety Related Topics.

(4) Public Comment period.

(5) Voting on any recommendations to be made to the U.S. Coast Guard.

(6) Administration.

(7) Closing Remarks.

(8) Adjournment of meeting.

A copy of all meeting documentation will be available at https://homeport.uscg.mil/Lists/Content/DispForm.aspx?ID=75937&Source=/Lists/Content/DispForm.aspx?ID=75937 by March 21, 2022. Alternatively, you may contact Mr. Jeff Decker as noted in the FOR FURTHER INFORMATION section above.

During the March 28 and March 29, 2022 meetings, a public comment period will be held from approximately 3:45 p.m.-4:00 p.m. Public comments will be limited to three minutes per speaker. Please note that the public comment periods will end following the last call for comments.

Please contact the individual listed in the FOR FURTHER INFORMATION CONTACT section, to register as a speaker.

Dated: March 2, 2022.
Wayne R. Arguin, Jr.,
Captain, U.S. Coast Guard, Director of Inspections and Compliance.

[FR Doc. 2022-04854 Filed 3-7-22; 8:45 am]

BILLING CODE 9110-04-P